DEPARTMENT OF STATE

[Public Notice No. 3524]

United States International Telecommunication Advisory Committee, Radiocommunication Sector (ITAC-R); Notice of Meeting

The Department of State announces a meeting of the U.S. International Telecommunication Advisory Committee Radiocommunication Sector (ITAC-R). The purpose of the Committee is to advise the Department on policy and positions with respect to the International Telecommunication Union and international radiocommunication matters.

The ITAC-R will meet from 9:30 to 12:30 on February 21, 2001, in Room 444 at 1200 Wilson Blvd, Arlington, VA, to prepare for the next meeting of radiocommunication activities within Joint Task Group 1-6-8-9 of the International Telecommunication Union (ITU). The JTG was established by the ITU Radiocommunication Sector's Chairmen and Vice-Chairmen's meeting held in Istanbul from 5 to 8 June 2000 in conjunction with the first meeting of CPM-02. The purposes of the JTG are to:

• Pursue ITU-R studies to facilitate the development of common, worldwide allocations or identification of spectrum suitable for new terrestrial wireless interactive multimedia technologies and applications;

• Review regulatory methods and appropriate means of worldwide spectrum identification in order to facilitate the harmonization of emerging terrestrial wireless interactive multimedia systems for the instant and flexible implementation of universal personal services;

• Review, if necessary, service definitions in the light of convergence of applications.

Members of the general public may attend this meeting and join in the discussions, subject to the instructions of the Chair. Admission of public members will be limited to seating available. Entrance to the meeting room is controlled; people intending to attend should send an e-mail to Staci M. Georgatos (staci.m.georgatos@boeing.com) at least 48 hours before the meeting. The e-mail should include the name of the meeting (Joint Task Group 1-6-8-9), date of the meeting, your name, social security number, date of birth, and organization. A current photographic identification, such as one of the following, will be required for admission: U.S. driver's license, U.S. passport, or U.S. Government identification card.

Participants should bring the first JTG meeting report available at http://www.itu.int/itudoc/itu-r/sg1/docs/1-6-8-9/2000-03/contrib/012e_ww9.doc.

Information on JTG 1-6-8-9's origin can be found in the publicly available report of CPM02-1 available at http://www.itu.int/itudoc/itu-r/ac/ca/083e.html.

Dated: January 22, 2001.
John T. Gilsenan,
Chairman, ITAC-R National Committee, Department of State.

[FR Doc. 01-2877 Filed 2-1-01; 8:45 am]

BILLING CODE 4710-45-U